DEPARTMENT OF THE TREASURY

Office of Foreign Assets Control

Additional Designation of Entities Pursuant to Executive Order 13382

AGENCY: Office of Foreign Assets Control, Treasury.

ACTION: Notice.

SUMMARY: The Treasury Department's Office of Foreign Assets Control (“OFAC”) is publishing the names of 17 newly-designated entities and eight newly-designated individuals whose property and interests in property are blocked pursuant to Executive Order 13382 of June 28, 2005, “Blocking Property of Weapons of Mass Destruction Proliferators and Their Supporters.”

DATES: The designation by the Director of OFAC of the 17 entities and eight individuals identified in this notice pursuant to Executive Order 13382 is effective on October 25, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On June 28, 2005, the President, invoking the authority, inter alia, of the International Emergency Economic Powers Act (50 U.S.C. 1701—1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in an Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On October 25, 2007, the Director of OFAC, in consultation with the Departments of State, Justice, and other relevant agencies, designated 17 entities and eight individuals whose property and interests in property are blocked pursuant to Executive Order 13382.

The list of additional designees follows:

Entities:

1. BANK MELLI, Ferdowsi Avenue, P.O. Box 11365-171, Tehran, Iran; all offices worldwide [NPWMD]

2. BANK KARGOSHAEE (a.k.a. Kargosa'i Bank), 587 Mohammadiye Square, Mowlavi St., Tehran 11986, Iran [NPWMD]

3. BANK MELLI IRAN ZAO, Number 9/1, Ulitsa Mashkova, Moscow 103064, Russia [NPWMD]

4. MELLI BANK PLC, 1 London Wall, London EC2Y 5EA, United Kingdom [NPWMD]

5. ARIAN BANK (a.k.a. Aryan Bank), House 2, Street Number 13, Wazir Akbar Khan, Kabul, Afghanistan [NPWMD]

6. BANK MELLAT, 327 Taleghani Avenue, Tehran 15817, Iran; P.O. Box 11365-5964, Tehran 15817, Iran; all offices worldwide [NPWMD]

7. MELLAT BANK SB CJSC (a.k.a. Mellat Bank DB AOZT), P.O. Box 24, Yerevan 0010, Armenia [NPWMD]

8. PERSIA INTERNATIONAL BANK PLC, #6 Lothbury, London EC2R 7HH, United Kingdom [NPWMD]

9. KHATAM OL ANBIA GHARARGAH SAZANDEGI NOOH (a.k.a. GHORB KHATAM; a.k.a. KHATAM AL-ANBYA; a.k.a. KHATAM OL AMBIA), No. 221, Phase 4, North Falamak-Zarafshan Intersection, Shahrak-E-Ghods, Tehran 14678, Iran [NPWMD]

10. ORIENTAL OIL KISH, Second Floor, 96/98 East Atefi St., Africa Blvd., Tehran, Iran; Dubai, United Arab Emirates [NPWMD]

11. GHORB KARBALA (a.k.a Gharargah Karbala; a.k.a. Gharargah Sazandegi Karbala-Moasseseh Taha), No. 2 Firouzeh Alley, Shahid Hadjipour St., Resalat Highway, Tehran, Iran [NPWMD]

12. SEPASAD ENGINEERING COMPANY, No. 4 Corner of Shad St., Mollasadra Ave., Vanak Square, Tehran, Iran [NPWMD]

13. GHORB NOOH, P.O. Box 16765-3476, Tehran, Iran [NPWMD]

14. OMRAN SAHEL, Tehran, Iran [NPWMD]

15. SAHEL CONSULTANT ENGINEERS, P.O. Box 16765-34, Tehran, Iran; No. 57, Eftekhar St., Larestan St., Motahhari Ave., Tehran, Iran [NPWMD]

16. HARA COMPANY (a.k.a HARA INSTITUTE), Tehran, Iran [NPWMD]

17. GHARARGAHE SAZANDEGI GHAEM (a.k.a. GHARARGAH GHAEM), No. 25, Valiasr St., Azadi Sq., Tehran, Iran [NPWMD]

Individuals:

1. BAHMANYAR, Bahmanyar Morteza; DOB 31 Dec 1952; POB Tehran, Iran; Passport I0005159 (Iran); alt Passport 10005159 (Iran) (individual) [NPWMD]

2. DASTJERDI, Ahmad Vahid (a.k.a. VAHID, Ahmed Dastjerdi); DOB 15 Jan 1954; Diplomatic Passport A0002987 (Iran) (individual) [NPWMD]

3. ESMAELI, REZA-GHOLI; DOB 3 Apr 1961; POB Tehran, Iran; Passport A0002302 (Iran) (individual) [NPWMD]

4. AHMADIAN, ALI AKBAR (a.k.a. AHMADIYAN, Ali Akbar); DOB circa 1961; POB Kerman, Iran; citizen Iran; nationality Iran (individual) [NPWMD]

5. HEJAZI, MOHAMMAD; DOB circa 1959; citizen Iran; nationality Iran (individual) [NPWMD]

6. REZAIE, MORTEZA (a.k.a. REZAI, Morteza); DOB circa 1956; citizen Iran; nationality Iran (individual) [NPWMD]

7. SALIMI, HOSEIN (a.k.a. SALAMI, Hoseyn; a.k.a SALAMI, Hossein; a.k.a SALAMI, Hussayn); citizen Iran; nationality Iran; Passport D08531177 (Iran) (individual) [NPWMD]

8. SOLEIMANI, QASEM (a.k.a. SALIMANI, Qasem; a.k.a SOLAIMANI, Qasem; a.k.a SOLEMANI, Qasem; a.k.a SOLEYMANI Ghasem; a.k.a SOLEYMANI, Qasem; a.k.a. SULAIMANI, Qasem; a.k.a. SULAYMAN, Qasmi; a.k.a. SULEMANI, Qasem); DOB 11 Mar 1957; POB Qom, Iran; citizen Iran; nationality Iran; Diplomatic Passport 008827 (Iran) issued 1999 (individual) [NPWMD]

Dated: October 25, 2007.
Adam Szubin,
Director, Office of Foreign Assets Control.

[FR Doc. E7-21725 Filed 11-2-07; 8:45 am]

BILLING CODE 4811-45-P